DEPARTMENT OF THE INTERIOR

National Park Service

[NPS-WASO-NRNHL-DTS#-31671;PPWOCRADI0, PCU00RP14.R50000]

National Register of Historic Places; Notification of Pending Nominations and Related Actions

AGENCY: National Park Service, Interior.

ACTION: Notice.

SUMMARY: The National Park Service is soliciting electronic comments on the significance of properties nominated before March 20, 2021, for listing or related actions in the National Register of Historic Places.

DATES: Comments should be submitted electronically by April 21, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before March 20, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

New Haven County

Armstrong Rubber Company Building, 500 Sargent Dr., New Haven, SG100006451

DISTRICT OF COLUMBIA

District of Columbia

Bazelon-McGovern House, 3020 University Terrace NW, Washington, SG100006457

LOUISIANA

Iberville Parish

Lozano, Louis S., House, 23730 Eden St., Plaquemine, SG100006452

MICHIGAN

Wayne County

Grosse Pointe Central Library, 10 Kercheval Ave., Grosse Pointe Farms, SG100006438

MINNESOTA

Winona County

First Congregational Church, 161 West Broadway St., Winona, SG100006440

NEW HAMPSHIRE

Coos County

Potter Site, Address Restricted, Randolph vicinity, SG100006475

NEW YORK

Onondaga County

Mottville Cemetery, 4275 Jordan Rd., Skaneateles vicinity, SG100006476

NORTH CAROLINA

Cleveland County

Summers, Frank Rickert, House, 1220 North Piedmont Ave., Kings Mountain vicinity, SG100006458

Currituck County

Walker, Wilson, House and Walker-Snowden Store, 150-158 Courthouse Rd., Currituck, SG100006454

Haywood County

Pigeon Street School, 450 Pigeon St., Waynesville, SG100006459

Iredell County

Long, Henry Fletcher and Carrie Allison, House, 335 North Center St., Statesville, SG100006460

Lenoir County

Kinston Commercial Historic District (Boundary Increase) (Boundary Decrease), (Kinston MPS), Roughly bounded by East and West Caswell, West Gordon, North Herritage, East King, North McLewean, and South Queen Sts., Spruce Alley, and the railroad right-of-way Kinston, BC100006479

Pasquotank County

Elizabeth City Industrial Historic District, (Elizabeth City MPS), Roughly bounded by East Burgess, North Poindexter, and East Elizabeth Sts., and the Pasquotank R., Elizabeth City, MP100006461

Polk County

The Cotton Patch, 426 South River Rd., Tryon vicinity, SG100006462

Rowan County

Temple, Edgar S. and Madge, House, 1604 Statesville Blvd., Salisbury, SG100006463

Stanly County

Hall, Julius Clegg, House and Grounds, 343 North Second St., Abemarle, SG100006453

Surry County

J. J. Jones High School, 213-215 Jones School Rd., Mount Airy, SG100006464

Mount Airy Historic District (Boundary Increase II), Includes portions of Bank, Broad, West Church, Durham, West Elm, Hadley, East and West Haymore, North Main, Maple, Merritt, Price, Rockford, Spring, and Willow Sts., Maiden Ln., Patterson and Rawley Aves., Mount Airy, BC100006465

Taylor Park Historic District, Includes all or portions of Charles, Grace, Howard, North Main, and Marion Sts., Crescent Dr., North and South Park, and Wrenn Aves., Mount Airy, SG100006466

A request to move has been received for the following resource:

MICHIGAN

Oakland County

Holly Union Depot, 223 South Broad St., Holly, MV00000645

Additional documentation has been received for the following resources:

ARIZONA

Coconino County

Flagstaff Townsite Historic Residential District (Additional Documentation), (Flagstaff MRA), Roughly bounded by Cherry, Humphreys and Sitgreaves Sts., Railroad Ave., and Toltec and Aztec Sts., Flagstaff, AD86000897

Maricopa County

Medlock Place Historic District (Additional Documentation), Roughly bounded by Missouri Ave., Camelback Rd., 7th Ave., and Central Ave., Phoenix, AD06000434

Garfield Historic District (Additional Documentation), (Residential Subdivisions and Architecture in Central Phoenix, 1870-1963, MPS), Roughly bounded by 7th, 16th, Roosevelt, and Van Buren Sts., Phoenix, AD10000325

Story, F.Q., Neighborhood Historic District (Additional Documentation), McDowell Rd., 7th Ave., Roosevelt St., and 16th Ave., Phoenix, AD88000212

Willo Historic District (Additional Documentation), Roughly bounded by Central Ave., McDowell Rd., 7th Ave., and Thomas Rd., Phoenix, AD90002099

Pima County

Armory Park Historic Residential District (Additional Documentation), East 12th St. to 19th St., Stone Ave. to 2nd Ave., Tucson, AD76000378

Barrio Libre (Additional Documentation), Roughly bounded by 14th, 19th, Stone, and Osborne Sts., Tucson, AD78000565

Colonia Solana Residential Historic District (Additional Documentation), Roughly bounded by Broadway Blvd., S. Randolph Way, Camino Campestre, and S. Country Club, Tucson, AD88002963

Yavapai County

East Prescott Historic District (Additional Documentation), (Prescott Territorial Buildings MRA), Roughly bounded by Atchison, Topeka, and Santa Fe Railroad tracks, North Mt. Vernon, Carleton, and North Alarcon Sts., Prescott, AD89000165

NORTH CAROLINA

Lenoir County

Kinston Commercial Historic District (Additional Documentation), (Kinston MPS), Roughly bounded by East and West Caswell, West Gordon, North Herritage, East King, North McLewean, and South Queen Sts; Spruce Alley, and the railroad right-of-way, Kinston, AD94000569

UTAH

Salt Lake County

Deseret Bank Building-First Security Bank Building, 79 South Main St., Salt Lake City, AD06000929

Salt Lake Engineering Works-Bogue Supply Company Building (Additional Documentation), 730 Pacific Ave., Salt Lake City, AD03000156

Walker Bank Building (Additional Documentation), 171 South Main St., Salt Lake City, AD06000929

Tribune Building (Additional Documentation), (Salt Lake City Business District MRA), 143 South Main St., Salt Lake City, AD82005108

Authority: Section 60.13 of 36 CFR part 60

Dated: March 24, 2021.
Sherry A. Frear,
Chief, National Register of Historic Places/National Historic Landmarks Program.

[FR Doc. 2021-07031 Filed 4-5-21; 8:45 am]

BILLING CODE 4312-52-P